DEPARTMENT OF LABOR

Office of the Secretary

20 CFR Chs. I, IV, V, VI, VII, and IX

29 CFR Subtitle A and Chs. II, IV, V, XVII, and XXV

30 CFR Ch. I

41 CFR Ch. 60

48 CFR Ch. 29

Semiannual Agenda of Regulations

AGENCY: Office of the Secretary, Labor.

ACTION: Semiannual regulatory agenda.

SUMMARY: The internet has become the means for disseminating the entirety of the Department of Labor's semiannual regulatory agenda. However, the Regulatory Flexibility Act requires publication of a regulatory flexibility agenda in the Federal Register. This Federal Register Notice contains the regulatory flexibility agenda.

FOR FURTHER INFORMATION CONTACT: Laura M. Dawkins, Deputy Assistant Secretary for Policy, Office of the Assistant Secretary for Policy, U.S. Department of Labor, 200 Constitution Avenue NW, Room S-2312, Washington, DC 20210; (202) 693-5959.

Note: Information pertaining to a specific regulation can be obtained from the agency contact listed for that particular regulation.

SUPPLEMENTARY INFORMATION: Executive Order 12866 requires the semiannual publication of an agenda of regulations that contains a listing of all the regulations the Department of Labor expects to have under active consideration for promulgation, proposal, or review during the coming one-year period. The entirety of the Department's semiannual agenda is available online at www.reginfo.gov.

The Regulatory Flexibility Act (5 U.S.C. 602) requires DOL to publish in the Federal Register a regulatory flexibility agenda. The Department's Regulatory Flexibility Agenda, published with this notice, includes only those rules on its semiannual agenda that are likely to have a significant economic impact on a substantial number of small entities; and those rules identified for periodic review in keeping with the requirements of section 610 of the Regulatory Flexibility Act. Thus, the regulatory flexibility agenda is a subset of the Department's semiannual regulatory agenda. The Department's Regulatory Flexibility Agenda does not include section 610 items at this time.

All interested members of the public are invited and encouraged to let departmental officials know how our regulatory efforts can be improved and are invited to participate in and comment on the review or development of the regulations listed on the Department's agenda.

Martin J. Walsh,
Secretary of Labor.

Wage and Hour Division—Proposed Rule Stage
Sequence No. | Title | Regulation Identifier No.
142 | Defining and Delimiting the Exemptions for Executive, Administrative, Professional, Outside Sales and Computer Employees | 1235-AA39

Employment and Training Administration—Proposed Rule Stage
Sequence No. | Title | Regulation Identifier No.
143 | Temporary Employment of H-2B Foreign Workers in Certain Itinerant Occupations in the United States | 1205-AB93

Employment and Training Administration—Completed Actions
Sequence No. | Title | Regulation Identifier No.
144 | Adjudication of Temporary Need for Herding and Range Livestock Applications Under the H-2A Program | 1205-AB99

Employee Benefits Security Administration—Final Rule Stage
Sequence No. | Title | Regulation Identifier No.
145 | Requirements Related to Surprise Billing, Part 1 | 1210-AB99

Occupational Safety and Health Administration—Prerule Stage
Sequence No. | Title | Regulation Identifier No.
146 | Process Safety Management and Prevention of Major Chemical Accidents | 1218-AC82
147 | Prevention of Workplace Violence in Health Care and Social Assistance | 1218-AD08

Occupational Safety and Health Administration—Proposed Rule Stage
Sequence No. | Title | Regulation Identifier No.
148 | Infectious Diseases | 1218-AC46
149 | Communication Tower Safety | 1218-AC90
150 | Emergency Response | 1218-AC91
151 | Tree Care Standard | 1218-AD04

DEPARTMENT OF LABOR (DOL)

Wage and Hour Division (WHD)

Proposed Rule Stage

142. Defining and Delimiting the Exemptions for Executive, Administrative, Professional, Outside Sales and Computer Employees [1235-AA39]

Legal Authority: 29 U.S.C. 201 et seq.; 29 U.S.C. 213

Abstract: WHD is reviewing the regulations at 29 CFR 541, which implement the exemption of bona fide executive, administrative, and professional employees from the Fair Labor Standards Act's minimum wage and overtime requirements.

Timetable:

Action | Date | FR Cite
NPRM | 10/00/22 |

Regulatory Flexibility Analysis Required: Yes.

Agency Contact: Amy DeBisschop, Director of the Division of Regulations, Legislation, and Interpretation, Department of Labor, Wage and Hour Division, 200 Constitution Avenue NW, FP Building, Room S-3502, Washington, DC 20210, Phone: 202 693-0406.

RIN: 1235-AA39

DEPARTMENT OF LABOR (DOL)

Employment and Training Administration (ETA)

Proposed Rule Stage

143. Temporary Employment of H-2B Foreign Workers in Certain Itinerant Occupations in the United States [1205-AB93]

Legal Authority: 8 U.S.C. 1184; 8 U.S.C. 1103

Abstract: The United States Department of Labor's (DOL) Employment and Training Administration and Wage and Hour Division, and the United States Department of Homeland Security (DHS), U.S. Citizenship and Immigration Services, are jointly proposing to amend H-2B non-immigrant visa program regulations at 20 CFR part 655, subpart A, and 8 CFR 214. The Notice of Proposed Rulemaking (NPRM) would establish standards and procedures for employers seeking to hire foreign temporary nonagricultural workers for certain itinerant job opportunities, including entertainers and carnivals and utility vegetation management.

Timetable:

Action | Date | FR Cite
NPRM | 02/00/23 |

Regulatory Flexibility Analysis Required: Yes.

Agency Contact: Brian Pasternak, Administrator, Department of Labor, Employment and Training Administration, 200 Constitution Avenue NW, Office of Foreign Labor Certification; Room N-5311, FP Building, Washington, DC 20210, Phone: 202 693-8200, Email: pasternak.brian@dol.gov.

RIN: 1205-AB93

DEPARTMENT OF LABOR (DOL)

Employment and Training Administration (ETA)

Completed Actions

144. Adjudication of Temporary Need for Herding and Range Livestock Applications Under the H-2A Program [1205-AB99]

Legal Authority: 8 U.S.C. 1188

Abstract: ETA amended its regulations regarding the H-2A non-immigrant visa program at 20 CFR 655, subpart B. Specifically, ETA rescinded 20 CFR 655.215(b)(2) to align with the parties' court-approved agreement in Hispanic Affairs Project, et al. v. Scalia, et al., No. 15-cv-1562 (D.D.C.).

Timetable:

Action | Date | FR Cite
NPRM | 05/06/21 | 86 FR 24368
NPRM Comment Period End | 06/07/21
Final Rule | 12/16/21 | 86 FR 71373
Final Rule Effective | 01/18/22

Regulatory Flexibility Analysis Required: Yes.

Agency Contact: Brian Pasternak, Administrator, Department of Labor, Employment and Training Administration, 200 Constitution Avenue NW, Office of Foreign Labor Certification; Room N-5311, FP Building, Washington, DC 20210, Phone: 202 693-8200, Email: pasternak.brian@dol.gov.

RIN: 1205-AB99

DEPARTMENT OF LABOR (DOL)

Employee Benefits Security Administration (EBSA)

Final Rule Stage

145. Requirements Related to Surprise Billing, Part 1 [1210-AB99]

Legal Authority: Pub. L. 116-260, Division BB, Title I and Title II

Abstract: This interim final rule with comment would implement certain protections against surprise medical bills under the No Surprises Act, including requirements on group health plans, issuers offering group or individual health insurance coverage, providers, facilities, and providers of air ambulance services.

Timetable:

Action | Date | FR Cite
Interim Final Rule | 07/13/21 | 86 FR 36872
Interim Final Rule Comment Period End | 09/07/21
Interim Final Rule Effective (Applicability Date 1/1/2022) | 09/13/21
Final Rule Amendment | 12/00/22

Regulatory Flexibility Analysis Required: Yes.

Agency Contact: Amber Rivers, Director, Office of Health Plan Standards and Compliance Assistance, Department of Labor, Employee Benefits Security Administration, 200 Constitution Avenue NW, Washington, DC 20210, Phone: 202 693-8335, Email: rivers.amber@dol.gov.

RIN: 1210-AB99

DEPARTMENT OF LABOR (DOL)

Occupational Safety and Health Administration (OSHA)

Prerule Stage

146. Process Safety Management and Prevention of Major Chemical Accidents [1218-AC82]

Legal Authority: 29 U.S.C. 655; 29 U.S.C. 657

Abstract: The Occupational Safety and Health Administration (OSHA) issued a Request for Information (RFI) on December 9, 2013 (78 FR 73756). The RFI identified issues related to modernization of the Process Safety Management standard and related standards necessary to meet the goal of preventing major chemical accidents. OSHA completed SBREFA in August 2016.

Timetable:

Action | Date | FR Cite
Request for Information (RFI) | 12/09/13 | 78 FR 73756
RFI Comment Period Extended | 03/07/14 | 79 FR 13006
RFI Comment Period Extended End | 03/31/14
Initiate SBREFA | 06/08/15
SBREFA Report Completed | 08/01/16
Stakeholder Meeting | 07/00/22

Regulatory Flexibility Analysis Required: Yes.

Agency Contact: Andrew Levinson, Deputy Director, Directorate of Standards and Guidance, Department of Labor, Occupational Safety and Health Administration, 200 Constitution Avenue NW, FP Building, Room N-3718, Washington, DC 20210, Phone: 202 693-1950, Email: levinson.andrew@dol.gov.

RIN: 1218-AC82

147. Prevention of Workplace Violence in Health Care and Social Assistance [1218-AD08]

Legal Authority: 29 U.S.C. 655(b); 5 U.S.C. 609

Abstract: The Request for Information (RFI) (published on December 7, 2016, 81 FR 88147)) provides OSHA's history with the issue of workplace violence in health care and social assistance, including a discussion of the Guidelines that were initially published in 1996, a 2014 update to the Guidelines, the agency's use of 5(a)(1) in enforcement cases in health care. The RFI solicited information primarily from health care employers, workers and other subject matter experts on impacts of violence, prevention strategies, and other information that will be useful to the agency. OSHA was petitioned for a standard preventing workplace violence in health care by a broad coalition of labor unions, and in a separate petition by the National Nurses United. On January 10, 2017, OSHA granted the petitions. OSHA is preparing for SBREFA.

Timetable:

Action | Date | FR Cite
Request for Information (RFI) | 12/07/16 | 81 FR 88147
RFI Comment Period End | 04/06/17
Initiate SBREFA | 09/00/22

Regulatory Flexibility Analysis Required: Yes.

Agency Contact: Andrew Levinson, Deputy Director, Directorate of Standards and Guidance, Department of Labor, Occupational Safety and Health Administration, 200 Constitution Avenue NW, FP Building, Room N-3718, Washington, DC 20210, Phone: 202 693-1950, Email: levinson.andrew@dol.gov.

RIN: 1218-AD08

DEPARTMENT OF LABOR (DOL)

Occupational Safety and Health Administration (OSHA)

Proposed Rule Stage

148. Infectious Diseases [1218-AC46]

Legal Authority: 5 U.S.C. 533; 29 U.S.C. 657 and 658; 29 U.S.C. 660; 29 U.S.C. 666; 29 U.S.C. 669; 29 U.S.C. 673

Abstract: Employees in health care and other high-risk environments face long-standing infectious disease hazards such as tuberculosis (TB), varicella disease (chickenpox, shingles), and measles, as well as new and emerging infectious disease threats, such as Severe Acute Respiratory Syndrome (SARS), the 2019 Novel Coronavirus (COVID-19), and pandemic influenza. Health care workers and workers in related occupations, or who are exposed in other high-risk environments, are at increased risk of contracting TB, SARS, Methicillin-Resistant Staphylococcus Aureus (MRSA), COVID-19, and other infectious diseases that can be transmitted through a variety of exposure routes. OSHA is examining regulatory alternatives for control measures to protect employees from infectious disease exposures to pathogens that can cause significant disease. Workplaces where such control measures might be necessary include: health care, emergency response, correctional facilities, homeless shelters, drug treatment programs, and other occupational settings where employees can be at increased risk of exposure to potentially infectious people. A standard could also apply to laboratories, which handle materials that may be a source of pathogens, and to pathologists, coroners' offices, medical examiners, and mortuaries.

Timetable:

Action | Date | FR Cite
Request for Information (RFI) | 05/06/10 | 75 FR 24835
RFI Comment Period End | 08/04/10
Analyze Comments | 12/30/10
Stakeholder Meetings | 07/05/11 | 76 FR 39041
Initiate SBREFA | 06/04/14
Complete SBREFA | 12/22/14
NPRM | 05/00/23

Regulatory Flexibility Analysis Required: Yes.

Agency Contact: Andrew Levinson, Deputy Director, Directorate of Standards and Guidance, Department of Labor, Occupational Safety and Health Administration, 200 Constitution Avenue NW, FP Building, Room N-3718, Washington, DC 20210, Phone: 202 693-1950, Email: levinson.andrew@dol.gov.

RIN: 1218-AC46

149. Communication Tower Safety [1218-AC90]

Legal Authority: 29 U.S.C. 655(b); 5 U.S.C. 609

Abstract: While the number of employees engaged in the communication tower industry remains small, the fatality rate is very high. Over the past 20 years, this industry has experienced an average fatality rate that greatly exceeds that of the construction industry. Due to recent FCC spectrum auctions and innovations in cellular technology, there will be a very high level of construction activity taking place on communication towers over the next few years. A similar increase in the number of construction projects needed to support cellular phone coverage triggered a spike in fatality and injury rates years ago. Based on information collected from an April 2015 Request for Information (RFI), OSHA concluded that current OSHA requirements such as those for fall protection and personnel hoisting, may not adequately cover all hazards of communication tower construction and maintenance activities. OSHA will use information collected from a Small Business Regulatory Enforcement Fairness Act (SBREFA) panel to identify effective work practices and advances in engineering technology that would best address industry safety and health concerns. The Panel carefully considered the issue of the expansion of the rule beyond just communication towers. OSHA will continue to consider also covering structures that have telecommunications equipment on or attached to them (e.g., buildings, rooftops, water towers, billboards).

Timetable:

Action | Date | FR Cite
Request for Information (RFI) | 04/15/15 | 80 FR 20185
RFI Comment Period End | 06/15/15
Initiate SBREFA | 01/04/17
Initiate SBREFA | 05/31/18
Complete SBREFA | 10/11/18
NPRM | 03/00/23

Regulatory Flexibility Analysis Required: Yes.

Agency Contact: Scott Ketcham, Director, Directorate of Construction, Department of Labor, Occupational Safety and Health Administration, 200 Constitution Avenue NW, Room N-3468, FP Building, Washington, DC 20210, Phone: 202 693-2020, Fax: 202 693-1689, Email: ketcham.scott@dol.gov.

RIN: 1218-AC90

150. Emergency Response [1218-AC91]

Legal Authority: 29 U.S.C. 655(b); 29 U.S.C. 657; 5 U.S.C. 609

Abstract: OSHA currently regulates aspects of emergency response and preparedness; some of these standards were promulgated decades ago, and none were designed as comprehensive emergency response standards. Consequently, they do not address the full range of hazards or concerns currently facing emergency responders, and other workers providing skilled support, nor do they reflect major changes in performance specifications for protective clothing and equipment. The agency acknowledges that current OSHA standards also do not reflect all the major developments in safety and health practices that have already been accepted by the emergency response community and incorporated into industry consensus standards. OSHA is considering updating these standards with information gathered through an RFI and public meetings.

Timetable:

Action | Date | FR Cite
Stakeholder Meetings | 07/30/14
Convene NACOSH Workgroup | 09/09/15
NACOSH Review of Workgroup Report | 12/14/16
Initiate SBREFA | 08/02/21
Finalize SBREFA | 12/02/21
NPRM | 05/00/23

Regulatory Flexibility Analysis Required: Yes.

Agency Contact: Andrew Levinson, Deputy Director, Directorate of Standards and Guidance, Department of Labor, Occupational Safety and Health Administration, 200 Constitution Avenue NW, FP Building, Room N-3718, Washington, DC 20210, Phone: 202 693-1950, Email: levinson.andrew@dol.gov.

RIN: 1218-AC91

151. Tree Care Standard [1218-AD04]

Legal Authority: Not Yet Determined

Abstract: There is no OSHA standard for tree care operations; the agency currently applies a patchwork of standards to address the serious hazards in this industry. The tree care industry previously petitioned the agency for rulemaking and OSHA issued an ANPRM (September 2008). OSHA completed a Small Business Regulatory Enforcement Fairness Act (SBREFA) panel in May 2020, collecting information from affected small entities on a potential standard, including the scope of the standard, effective work practices, and arboricultural specific uses of equipment to guide OSHA in developing a rule that would best address industry safety and health concerns. Tree care continues to be a high-hazard industry.

Timetable:

Action | Date | FR Cite
Stakeholder Meeting | 07/13/16
Initiate SBREFA | 01/10/20
Complete SBREFA | 05/22/20
NPRM | 12/00/22

Regulatory Flexibility Analysis Required: Yes.

Agency Contact: Andrew Levinson, Deputy Director, Directorate of Standards and Guidance, Department of Labor, Occupational Safety and Health Administration, 200 Constitution Avenue NW, FP Building, Room N-3718, Washington, DC 20210, Phone: 202 693-1950, Email: levinson.andrew@dol.gov.

RIN: 1218-AD04

[FR Doc. 2022-14607 Filed 8-5-22; 8:45 am]

BILLING CODE 4510-HL-P